NUCLEAR REGULATORY COMMISSION

[NRC-2018-0181]

Biweekly Notice; Applications and Amendments to Facility Operating Licenses and Combined; Licenses Involving No Significant Hazards Considerations

AGENCY: Nuclear Regulatory Commission.

ACTION: Biweekly notice.

SUMMARY: Pursuant to the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued, from July 31, 2018, to August 13, 2018. The last biweekly notice was published on August 14, 2018.

DATES: Comments must be filed by September 27, 2018. A request for a hearing must be filed by October 29, 2018.

ADDRESSES: You may submit comments by any of the following methods:

• Federal Rulemaking website: Go to http://www.regulations.gov and search for Docket ID NRC-2018-0181. Address questions about NRC dockets to Jennifer Borges; telephone: 301-287-9127; email: Jennifer.Borges@nrc.gov. For technical questions, contact the individual listed in the FOR FURTHER INFORMATION CONTACT section of this document.

• Mail comments to: May Ma, Office of Administration, Mail Stop: TWFN-7-A60M, U.S. Nuclear Regulatory Commission, Washington, DC 20555-0001.

For additional direction on obtaining information and submitting comments, see “Obtaining Information and Submitting Comments” in the SUPPLEMENTARY INFORMATION section of this document.

FOR FURTHER INFORMATION CONTACT: Janet Burkhardt, Office of Nuclear Reactor Regulation, U.S. Nuclear Regulatory Commission, Washington, DC 20555-0001; telephone: 301-415-1384; email: Janet.Burkhardt@nrc.gov.

SUPPLEMENTARY INFORMATION:

I. Obtaining Information and Submitting Comments

A. Obtaining Information

Please refer to Docket ID NRC-2018-0181, facility name, unit number(s), plant docket number, application date, and subject when contacting the NRC about the availability of information for this action. You may obtain publicly-available information related to this action by any of the following methods:

• Federal Rulemaking website: Go to http://www.regulations.gov and search for Docket ID NRC-2018-0181.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

B. Submitting Comments

Please include Docket ID NRC-2018-0181, facility name, unit number(s), plant docket number, application date, and subject in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

The Commission has made a proposed determination that the following amendment requests involve no significant hazards consideration. Under the Commission's regulations in § 50.92 of title 10 of the Code of Federal Regulations (10 CFR), this means that operation of the facility in accordance with the proposed amendment would not (1) involve a significant increase in the probability or consequences of an accident previously evaluated, or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period if circumstances change during the 30-day comment period such that failure to act in a timely way would result, for example in derating or shutdown of the facility. If the Commission takes action prior to the expiration of either the comment period or the notice period, it will publish in the Federal Register a notice of issuance. If the Commission makes a final no significant hazards consideration determination, any hearing will take place after issuance. The Commission expects that the need to take this action will occur very infrequently.

A. Opportunity To Request a Hearing and Petition for Leave To Intervene

Within 60 days after the date of publication of this notice, any persons (petitioner) whose interest may be affected by this action may file a request for a hearing and petition for leave to intervene (petition) with respect to the action. Petitions shall be filed in accordance with the Commission's “Agency Rules of Practice and Procedure” in 10 CFR part 2. Interested persons should consult a current copy of 10 CFR 2.309. The NRC's regulations are accessible electronically from the NRC Library on the NRC's website at http://www.nrc.gov/reading-rm/doc-collections/cfr/. Alternatively, a copy of the regulations is available at the NRC's Public Document Room, located at One White Flint North, Room O1-F21, 11555 Rockville Pike (First Floor), Rockville, Maryland 20852. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right under the Act to be made a party to the proceeding; (3) the nature and extent of the petitioner's property, financial, or other interest in the proceeding; and (4) the possible effect of any decision or order which may be entered in the proceeding on the petitioner's interest.

In accordance with 10 CFR 2.309(f), the petition must also set forth the specific contentions which the petitioner seeks to have litigated in the proceeding. Each contention must consist of a specific statement of the issue of law or fact to be raised or controverted. In addition, the petitioner must provide a brief explanation of the bases for the contention and a concise statement of the alleged facts or expert opinion which support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one which, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of no significant hazards consideration, the Commission will make a final determination on the issue of no significant hazards consideration. The final determination will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally-recognized Indian Tribe, or agency thereof does not need to address the standing requirements in 10 CFR 2.309(d) if the facility is located within its boundaries. Alternatively, a State, local governmental body, Federally-recognized Indian Tribe, or agency thereof may participate as a non-party under 10 CFR 2.315(c).

If a hearing is granted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562; August 3, 2012). The E-Filing process requires participants to submit and serve all adjudicatory documents over the internet, or in some cases to mail copies on electronic storage media. Detailed guidance on making electronic submissions may be found in the Guidance for Electronic Submissions to the NRC and on the NRC website at http://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public website at https://www.nrc.gov/site-help/e-submittals/getting-started.html. Once a participant has obtained a digital ID certificate and a docket has been created, the participant can then submit adjudicatory documents. Submissions must be in Portable Document Format (PDF). Additional guidance on PDF submissions is available on the NRC's public website at http://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public website at http://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC-issued digital ID certificate as described above, click cancel when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

For further details with respect to these license amendment applications, see the application for amendment which is available for public inspection in ADAMS and at the NRC's PDR. For additional direction on accessing information related to this document, see the “Obtaining Information and Submitting Comments” section of this document.

Duke Energy Carolinas, LLC, Docket Nos. 50-369 and 50-370, McGuire Nuclear Station, Units 1 and 2, Mecklenburg County, North Carolina

Date of amendment request: May 31, 2018. A publicly-available version is in ADAMS under Accession No. ML18159A035.

Description of amendment request: The amendments would modify Technical Specification 3.1.7, “Rod Position Indication,” to add a new Condition for more than one inoperable digital rod position indication (DRPI) per rod group, and revise the Action Note and to clarify the wording of current Required Actions A.1 and B.1. This change is consistent with NRC-approved Technical Specification Task Force (TSTF) Traveler TSTF-234-A, “Add Action for More Than One [D]RPI Inoperable,” Revision 1.

Basis for proposed no significant hazards consideration determination: As required by 10 CFR 50.91(a), the licensee has provided its analysis of the issue of no significant hazards consideration, which is presented below:

1. Does the proposed amendment involve a significant increase in the probability or consequences of an accident previously evaluated?

Response: No.

The proposed amendment provides a Condition and Required Actions for more than one inoperable digital rod position indications (DRPI) per rod group. The DRPls are not an initiator of any accident previously evaluated. The DRPls are one indication used by operators to verify control rod insertion following an accident; however other indications are available. Therefore, allowing a finite period of time to correct more than one inoperable DRPI prior to requiring a plant shutdown will not result in an increase in the consequences of any accident previously evaluated. The proposed amendment does not involve an increase in the probability or consequences of any accident previously evaluated.

2. Does the proposed amendment create the possibility of a new or different kind of accident from any accident previously evaluated?

Response: No.

The proposed amendment does not involve a physical alteration to the plant (i.e., no new or different type of equipment will be installed) or a change to the methods governing normal plant operation. The changes do not alter the assumptions made in the safety analysis. Therefore, the proposed amendment does not create the possibility of a new or different kind of accident from any accident previously evaluated.

3. Does the proposed amendment involve a significant reduction in the margin of safety?

Response: No.

The proposed amendment provides time to correct the condition of more than one DRPI inoperable in a rod group. Compensatory measures are required to verify that the rods monitored by the inoperable DRPls are not moved to ensure that there is no effect on core reactivity. Requiring a plant shutdown with inoperable rod position indications introduces plant risk and should not be initiated unless the rod position indication cannot be repaired in a reasonable period. As a result, the safety benefit provided by the proposed Condition offsets the small decrease in safety resulting from continued operation with more than one inoperable DRPI. Therefore, the proposed amendment does not involve a reduction in a margin of safety.

The NRC staff has reviewed the licensee's analysis and, based on this review, it appears that the three standards of 10 CFR 50.92(c) are satisfied. Therefore, the NRC staff proposes to determine that the amendment request involves no significant hazards consideration.

Attorney for licensee: Kate B. Nolan, Deputy General Counsel, Duke Energy Carolinas, LLC, 550 South Tryon Street, M/C DEC45A, Charlotte, NC 28202-1802.

NRC Branch Chief: Michael T. Markley.

Duke Energy Carolinas, LLC, Docket Nos. 50-269, 50-270, and 50-287, Oconee Nuclear Station, Units 1, 2, and 3, Oconee County, South Carolina

Date of amendment request: May 17, 2018. A publicly-available version is in ADAMS under Accession No. ML18144A788.

Description of amendment request: The amendments would revise Technical Specification (TS) 3.8.1, “AC [Alternating Current] Sources—Operating,” by adding a surveillance requirement that verifies the ability of the Keowee Hydroelectric Unit auxiliary power system to automatically transfer from its normal auxiliary power source to its alternate auxiliary power source.

Basis for proposed no significant hazards consideration determination: As required by 10 CFR 50.91(a), the licensee has provided its analysis of the issue of no significant hazards consideration, which is presented below:

1. Does the proposed amendment involve a significant increase in the probability or consequences of an accident previously evaluated?

No. The proposed TS change, which adds a Surveillance Requirement to TS 3.8.1 to test the automatic Keowee auxiliary power transfer circuitry, will allow ONS [Oconee Nuclear Station] to credit an existing design feature to facilitate mitigation of a postulated single failure. The proposed change does not modify the reactor coolant system pressure boundary, nor make any physical changes to the facility design, material, or construction standards. The proposed change is needed to eliminate a previously unrecognized single failure concern that resulted in a non-conservative TS. The proposed change does not affect the safety analyses thus dose consequences will remain within analyzed and acceptable limits. The probability of any design basis accident (DBA) is not increased by this change, nor are the consequences of any DBA increased by this change. The proposed change does not involve changes to any structures, systems, or components (SSCs) that can alter the probability for initiating a DBA event.

Therefore, the proposed TS change does not significantly increase the probability or consequences of an accident previously evaluated.

2. Does the proposed amendment create the possibility of a new or different kind of accident from any accident previously evaluated?

No. The proposed new Surveillance Requirement to test the automatic Keowee auxiliary power transfer circuitry will allow ONS to credit an existing design feature to facilitate mitigation of a postulated single failure. The proposed change does not alter the plant configuration (no new or different type of equipment will be installed) or make changes in methods governing normal plant operation. The automatic Keowee auxiliary power transfer circuitry is currently installed and in use but not credited for accident mitigation. No new failure modes are identified, nor are any SSCs required to be operated outside the design bases. Therefore, the possibility of a new or different kind of accident from any kind of accident previously evaluated is not created.

3. Does the proposed amendment involve a significant reduction in a margin of safety?

No. The proposed new Surveillance Requirement to test the automatic Keowee auxiliary power transfer circuitry will allow ONS to credit an existing design feature to facilitate mitigation of a postulated single failure. The proposed change does not involve: (1) A physical alteration of the Oconee Units; (2) the installation of new or different equipment; (3) a change to any set points for parameters which initiate protective or mitigation action; or (4) any impact on the fission product barriers or safety limits. As long as the equipment continues to perform as expected and within the guidelines captured in the safety analyses, the change does not involve a significant reduction in the margin of safety.

The NRC staff has reviewed the licensee's analysis and, based on this review, it appears that the three standards of 10 CFR 50.92(c) are satisfied. Therefore, the NRC staff proposes to determine that the amendment request involves no significant hazards consideration.

Attorney for licensee: Kate B. Nolan, Deputy General Counsel, Duke Energy Carolinas, LLC, 550 South Tryon Street, M/C DEC45A, Charlotte, NC 28202-1802.

NRC Branch Chief: Michael T. Markley.

Florida Power & Light Company, et al., Docket Nos. 50-335 and 50-389, St. Lucie Plant, Unit Nos. 1 and 2, St. Lucie County, Florida

Date of amendment request: August 2, 2018. A publicly-available version is in ADAMS under Accession No. ML18218A075.

Description of amendment request: The amendments would revise the Technical Specifications (TS) by deleting Figure 5.1-1, “Site Area Map,” removing references in the TS to Figure 5.1-1, and adding a site description.

Basis for proposed no significant hazards consideration determination: As required by 10 CFR 50.91(a), the licensee has provided its analysis of the issue of no significant hazards consideration, which is presented below:

1. Does the proposed amendment involve a significant increase in the probability or consequences of an accident previously evaluated?

Response: No.

The proposed change does not modify any plant equipment or affect plant operation. The proposed change neither impacts any structures, systems, or components (SSCs), nor alters any plant processes or procedures. The proposed change is administrative in nature and cannot adversely impact safety.

Therefore, the proposed changes do not involve a significant increase in the probability or consequences of an accident previously evaluated.

2. Does the proposed amendment create the possibility of a new or different kind of accident from any accident previously evaluated?

Response: No.

The proposed change has no impact on the design, function or operation of the plants. The proposed change is administrative in nature, and thereby cannot introduce new failure modes or unanticipated outcomes.

Therefore, the proposed changes do not create the possibility of a new or different kind of accident from any previously evaluated.

3. Does the proposed amendment involve a significant reduction in a margin of safety?

Response: No.

The proposed change does not affect plant safety margins or the reliability of the equipment assumed to operate in the safety analyses. The proposed change is administrative in nature, and thereby cannot affect any safety analysis assumptions, safety limits or limiting safety system settings.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Debbie Hendell, Managing Attorney—Nuclear, Florida Power & Light Company, 700 Universe Blvd. MS LAW/JB, Juno Beach, FL 33408-0420.

NRC Acting Branch Chief: Booma Venkataraman.

Indiana Michigan Power Company, Docket Nos. 50-315 and 50-316, Donald C. Cook Nuclear Plant (CNP), Units Nos. 1 and 2, Berrien County, Michigan

Date of amendment request: June 11, 2018. A publicly-available version is in ADAMS under Accession No. ML18164A033.

Description of amendment request: The proposed change would allow for deviation from National Fire Protection Association (NFPA) 805 requirements, to allow for the use of flexible metallic conduit in configurations other than to connect components, and also in lengths greater than short lengths.

Basis for proposed no significant hazards consideration determination: As required by 10 CFR 50.91(a), the licensee has provided its analysis of the issue of no significant hazards consideration, which is presented below:

1. Does the proposed amendment involve a significant increase in the probability or consequences of an accident previously evaluated?

Response: No.

The use of flexible metallic conduit to be used other than to connect components or to be used in greater than short lengths does not impact fire prevention. Flexible metallic conduit has been in use since original plant construction, is allowed by the National Electrical Code and is not expected to increase the potential for a fire to start.

The introduction of flexible metallic conduit does not create ignition sources and does not impact fire prevention. Cable installation procedures are utilized to ensure that the use of flexible metallic conduit is in accordance with the CNP design change process. Also, the use of flexible metallic conduit does not result in compromising automatic fire suppression functions, manual fire suppression functions, fire protection for systems and structures, or post-fire safe shutdown capability.

Therefore, the proposed changes do not involve a significant increase in the probability or consequences of an accident previously evaluated.

2. Does the proposed amendment create the possibility of a new or different kind of accident from any accident previously evaluated?

Response: No.

The proposed changes do allow future physical changes to the facility that deviate from NFPA 805 requirements. However, the proposed changes do not alter any assumptions made in the safety analyses, nor do they involve any changes to plant procedures for ensuring that the plant is operated within analyzed limits. As such, no new failure modes or mechanisms that could cause a new or different kind of accident from any previously evaluated are being introduced.

Therefore, the proposed changes do not create the possibility of a new or different kind of accident from any previously evaluated.

3. Does the proposed amendment involve a significant reduction in a margin of safety?

Response: No.

The proposed changes do not alter the manner in which safety limits or limiting safety system settings are determined. No changes to instrument/system actuation setpoints are involved. The safety analysis acceptance criteria are not affected by this change and the proposed changes will not permit plant operation in a configuration outside the design basis.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Robert B. Haemer, Senior Nuclear Counsel, One Cook Place, Bridgman, MI 49106.

NRC Branch Chief: David J. Wrona.

Nebraska Public Power District, Docket No. 50-298, Cooper Nuclear Station, Nemaha County, Nebraska

Date of amendment request: June 11, 2018. A publicly-available version is in ADAMS under Accession No. ML18169A147.

Description of amendment request: The amendment would revise Technical Specification (TS) 3.8.3, “Diesel Fuel Oil, Lube Oil, and Starting Air,” by relocating the current stored diesel fuel oil and lube oil numerical volume requirements from the TSs to the TS Bases. The proposed changes are consistent with Technical Specifications Task Force (TSTF) Traveler TSTF-501, Revision 1, “Relocate Stored Fuel Oil and Lube Oil Volume Values to Licensee Control.” The amendment would also revise TS 3.8.1, “AC [Alternating Current] Sources—Operating,” by relocating the specific diesel fuel oil day tank numerical volume requirement to the TS Bases and replacing it with the day tank time requirement. The availability of this TS improvement was announced in the Federal Register on May 26, 2010 (75 FR 29588), as part of the consolidated line item improvement process.

Basis for proposed no significant hazards consideration determination: As required by 10 CFR 50.91(a), the licensee has provided its analysis of the issue of no significant hazards consideration, which is presented below:

1. Does the proposed change involve a significant increase in the probability or consequences of an accident previously evaluated?

Response: No.

The proposed change removes the volume of diesel fuel oil and lube oil required to support 7-day operation of an onsite diesel generator, and the volume equivalent to a 6-day supply, to licensee control. The specific volume of fuel oil equivalent to a 7 and 6-day supply is calculated using the Nuclear Regulatory Commission (NRC) approved methodology described in Regulatory Guide 1.137, Revision 1, “Fuel-Oil Systems for Standby Diesel Generators” and ANSI [American National Standards Institute] N195 1976, “Fuel Oil [S]ystems for Standby Diesel-Generators.” The specific volume of lube oil equivalent to a 7-day and 6-day supply is based on a conservative consumption value of 3 gallons/hour for the run time of the diesel generator. Because the requirement to maintain a 7-day supply of diesel fuel oil and lube oil is not changed and is consistent with the assumptions in the accident analyses, and the actions taken when the volume of fuel oil and lube oil are less than a 6-day supply have not changed, neither the probability nor the consequences of any accident previously evaluated will be affected.

The proposed change also relocates the volume of diesel fuel oil required to support 3.9 hours of diesel generator operation at full load in the day tank. The specific volume and time is not changed and is consistent with the existing plant design basis to support the emergency diesel generator under accident loading conditions.

Therefore, the proposed changes do not involve a significant increase in the probability or consequences of an accident previously evaluated.

2. Does the proposed change create the possibility of a new or different kind of accident from any accident previously evaluated?

Response: No.

The change does not involve a physical alteration of the plant (i.e., no new or different type of equipment will be installed) or a change in the methods governing normal plant operation. The change does not alter assumptions made in the safety analysis but ensures that the diesel generator operates as assumed in the accident analysis. The proposed change is consistent with the safety analysis assumptions.

Therefore, the proposed change does not create the possibility of a new or different kind of accident from any accident previously evaluated.

3. Does the proposed change involve a significant reduction in a margin of safety?

Response: No.

The proposed change relocates the volume of diesel fuel oil and lube oil required to support 7-day operation of an onsite diesel generator, the volume equivalent to a 6-day supply, and 3.9 hour day tank supply to licensee control. As the bases for the existing limits on diesel fuel oil, and lube oil are not changed, no change is made to the accident analysis assumptions and no margin of safety is reduced as part of this change.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. John C. McClure, Nebraska Public Power District, Post Office Box 499, Columbus, NE 68602-0499.

NRC Branch Chief: Robert J. Pascarelli.

Northern States Power Company—Minnesota, Docket No. 50-263, Monticello Nuclear Generating Plant (MNGP), Wright County, Minnesota

Date of amendment request: July 3, 2018. A publicly-available version is in ADAMS under Accession No. ML18187A400.

Description of amendment request: The proposed amendment would modify the MNGP technical specifications to adopt Technical Specification Task Force (TSTF) Traveler TSTF-551, Revision 3, “Revise Secondary Containment Surveillance Requirements.”

Basis for proposed no significant hazards consideration determination: As required by 10 CFR 50.91(a), the licensee has provided its analysis of the issue of no significant hazards consideration, which is presented below:

1. Does the proposed change involve a significant increase in the probability or consequences of an accident previously evaluated?

Response: No.

The proposed change addresses conditions during which the secondary containment SRs [surveillance requirements] are not met. The secondary containment is not an initiator of any accident previously evaluated. As a result, the probability of any accident previously evaluated is not increased. The consequences of an accident previously evaluated while utilizing the proposed changes are no different than the consequences of an accident while utilizing the existing four hour Completion Time for an inoperable secondary containment. In addition, the proposed Note for SR 3.6.4.1.1 provides an alternative means to ensure the secondary containment safety function is met. As a result, the consequences of an accident previously evaluated are not significantly increased.

Therefore, the proposed change does not involve a significant increase in the probability or consequences of an accident previously evaluated.

2. Does the proposed change create the possibility of a new or different kind of accident from any previously evaluated?

Response: No.

The proposed change does not alter the protection system design, create new failure modes, or change any modes of operation. The proposed change does not involve a physical alteration of the plant and no new or different kind of equipment will be installed. Consequently, there are no new initiators that could result in a new or different kind of accident.

Therefore, the proposed change does not create the possibility of a new or different kind of accident from any accident previously evaluated.

3. Does the proposed change involve a significant reduction in a margin of safety?

Response: No.

The proposed change addresses conditions during which the secondary containment SR is not met. Conditions in which the secondary containment vacuum is less than the required vacuum are acceptable provided the conditions do not affect the ability of the SGT [Standby Gas Treatment] System to establish the required secondary containment vacuum under post-accident conditions within the time assumed in the accident analysis. This condition is incorporated in the proposed change by requiring an analysis of actual environmental and secondary containment pressure conditions to confirm the capability of the SGT System is maintained within the assumptions of the accident analysis. Therefore, the safety function of the secondary containment is not affected. The allowance for both an inner and outer secondary containment door to be open simultaneously for entry and exit does not affect the safety function of the secondary containment as the doors are promptly closed after entry or exit, thereby restoring the secondary containment boundary.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Peter M. Glass, Assistant General Counsel, Xcel Energy Services, Inc., 414 Nicollet Mall, Minneapolis, MN 55401.

NRC Branch Chief: David J. Wrona.

PSEG Nuclear LLC, and Exelon Generation Company, LLC, Docket Nos. 50-272 and 50-311, Salem Nuclear Generating Station, Unit Nos. 1 and 2, Salem County, New Jersey

Date of amendment request: June 29, 2018. A publicly-available version is in ADAMS under Accession No. ML18180A291.

Description of amendment request: The amendments would revise Technical Specification (TS) ¾.3.1, “Reactor Trip System Instrumentation”; TS ¾.3.2, “Engineered Safety Feature Actuation System Instrumentation”; TS ¾.7.1.5, “Main Steam Isolation Valves”; and add a new TS for feedwater isolation to better align the TS with the design basis analyses and the design of the instrumentation.

Basis for proposed no significant hazards consideration determination: As required by 10 CFR 50.91(a), the licensee has provided its analysis of the issue of no significant hazards consideration, which is presented below:

1. Does the proposed change involve a significant increase in the probability or consequences of an accident previously evaluated?

Response: No.

The proposed changes to the TS will not alter the way any structure, system, or component (SSC) functions, and will not alter the manner in which the plant is operated. The proposed changes do not alter the design of any SSC. Therefore the probability of an accident previously evaluated is not significantly increased.

The proposed changes more accurately align the TS with the design bases accident analysis for the main steam line break, feedwater line break and feedwater malfunction. Therefore, the consequences of an accident previously evaluated are not increased.

Therefore, these proposed changes do not represent a significant increase in the probability or consequences of an accident previously evaluated.

2. Does the proposed change create the possibility of a new or different kind of accident from any accident previously evaluated?

Response: No.

The proposed changes do not involve a modification to the physical configuration of the plant or changes in the methods governing normal plant operation. The proposed changes do not impose any new or different requirement or introduce a new accident initiator, accident precursor, or malfunction mechanism.

Therefore, the proposed changes do not create the possibility of a new or different kind of accident from any accident previously evaluated.

3. Do[es] the proposed [change] involve a significant reduction in a margin of safety?

Response: No.

The proposed changes to the TS impose requirements that are consistent with assumptions in the safety analyses. The proposed changes will not result in changes to system design or setpoints that are intended to ensure timely identification of plant conditions that could be precursors to accidents or potential degradation of accident mitigation systems.

The proposed amendment will not result in a design basis or safety limit being exceeded or altered. Therefore, since the proposed changes do not impact the response of the plant to a design basis accident, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Ryan K. Lighty, Morgan, Lewis & Bockius LLP, 1111 Pennsylvania Avenue NW, Washington, DC 20004-2541

NRC Branch Chief: James G. Danna.

PSEG Nuclear LLC, and Exelon Generation Company, LLC, Docket Nos. 50-272 and 50-311, Salem Nuclear Generating Station, Unit Nos. 1 and 2, Salem County, New Jersey.

Date of amendment request: June 29, 2018. A publicly-available version is in ADAMS under Accession No. ML18183A025.

Description of amendment request: The amendments would delete duplicative Technical Specification (TS) requirements to the refueling water storage tank (RWST) in TS 3.1.2.6, “Borated Water Sources—Operating,” and would revise TS 3.5.5, “Refueling Water Storage Tank,” to ensure compliance with assumptions used in the design basis accident and containment response analyses and to make Salem TS requirements for the RWST consistent with NUREG-1431, Revision 4, “Standard Technical Specifications—Westinghouse Plants.”

Basis for proposed no significant hazards consideration determination: As required by 10 CFR 50.91(a), the licensee has provided its analysis of the issue of no significant hazards consideration, which is presented below:

1. Does the proposed change involve a significant increase in the probability or consequences of an accident previously evaluated?

Response: No.

The proposed changes do not adversely affect accident initiators or precursors or alter the design assumptions, conditions, or configuration of the facility or the manner in which the plant is operated and maintained. The proposed changes do not alter or prevent the ability of structures, systems, and components (SSCs) to perform their intended function to mitigate the consequences of an initiating event within the acceptance limits. The proposed changes do not affect the source term, containment isolation, or radiological release assumptions used in evaluating the radiological consequences of an accident previously evaluated. The proposed change is consistent with and continues to support the safety analysis assumptions and resultant consequences.

Therefore, the proposed change does not involve a significant increase in the probability or consequences of an accident previously evaluated.

2. Does the proposed change create the possibility of a new or different kind of accident from any accident previously evaluated?

Response: No.

The proposed changes do not alter or involve any design basis accident initiators. The changes to the Technical Specifications regarding RWST operational limits are primarily administrative in nature and do not affect the design or operation of the plant. Increasing the allowable out of service time (AOT) for the RWST does not cause any plant systems to become initiators of a new or different type of accident. Systems and equipment will be operated in the same configuration and manner that is currently allowed and for which the systems were designed.

Therefore, the proposed changes do not create the possibility of a new or different kind of accident from any previously evaluated.

3. Does the proposed change involve a significant reduction in a margin of safety?

Response: No.

The proposed change does not alter the permanent plant design, including instrument set points, nor does it change the assumptions contained in the safety analyses.

The RWST continues to meet the design requirements relative to core and containment cooling and reactivity control; there is no reduction in capability or change in design configuration. Increasing the RWST AOT for reasons directly related to boron concentration or temperature does not affect any accident analysis assumptions, initial conditions, or results. Adding an upper temperature limit to the LCO [limiting condition for operation] for TS 3.5.5 ensures the RWST remains within temperature ranges assumed in the plant's safety analyses. Removing the upper limit on RWST volume does not alter the RWST design and the limit is not used as an input or assumption in any plant safety analysis. The proposed changes do not alter a design basis or safety limit.

Therefore, it is concluded that the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Ryan K. Lighty, Morgan, Lewis & Bockius LLP, 1111 Pennsylvania Avenue NW, Washington, DC 20004-2541.

NRC Branch Chief: James G. Danna.

Tennessee Valley Authority, Docket Nos. 50-327 and 50-328, Sequoyah Nuclear Plant, Units 1 and 2, Hamilton County, Tennessee

Date of amendment request: March 16, 2018. A publicly-available version is in ADAMS under Accession No. ML18075A365.

Description of amendment request: The amendments would adopt 10 CFR 50.69, “Risk-informed categorization and treatment of structures, systems and components for nuclear power reactors.” The provisions of 50.69 allow improved focus on equipment that has safety significance, resulting in improved plant safety.

Basis for proposed no significant hazards consideration determination: As required by 10 CFR 50.91(a), the licensee has provided its analysis of the issue of no significant hazards consideration, which is presented below:

1. Does the proposed change involve a significant increase in the probability or consequence of an accident previously evaluated?

Response: No.

The proposed change will permit the use of a risk-informed categorization process to modify the scope of structures, systems, and components (SSCs) subject to Nuclear Regulatory Commission (NRC) special treatment requirements and to implement alternative treatments per the regulations. The process used to evaluate SSCs for changes to NRC special treatment requirements and the use of alternative requirements ensures the ability of the SSCs to perform their design function. The potential change to special treatment requirements does not change the design and operation of the SSCs. As a result, the proposed change does not significantly affect any initiators to accidents previously evaluated or the ability to mitigate any accidents previously evaluated. The consequences of the accidents previously evaluated are not affected because the mitigation functions performed by the SSCs assumed in the safety analysis are not being modified. The SSCs required to safely shut down the reactor and maintain it in a safe shutdown condition following an accident will continue to perform their design functions.

Therefore, the proposed change does not involve a significant increase in the probability or consequences of an accident previously evaluated.

2. Does the proposed change create the possibility of a new or different kind of accident from any accident previously evaluated?

Response: No.

The proposed change will permit the use of a risk-informed categorization process to modify the scope of SSCs subject to NRC special treatment requirements and to implement alternative treatments per the regulations. The proposed change does not change the functional requirements, configuration, or method of operation of any SSC. Under the proposed change, no additional plant equipment will be installed.

Therefore, the proposed change does not create the possibility of a new or different kind of accident from any accident previously evaluated.

3. Does the proposed change involve a significant reduction in a margin of safety?

Response: No.

The proposed change will permit the use of a risk-informed categorization process to modify the scope of SSCs subject to NRC special treatment requirements and to implement alternative treatments per the regulations. The proposed change does not affect any safety limits or operating parameters used to establish the safety margin. The safety margins included in analyses of accidents are not affected by the proposed change. The regulation requires that there be no significant effect on plant risk due to any change to the special treatment requirements for SSCs and that the SSCs continue to be capable of performing their design basis functions, as well as to perform any beyond design basis functions consistent with the categorization process and results.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: General Counsel, Tennessee Valley Authority, 400 West Summit Hill Drive, 6A West Tower, Knoxville, TN 37902.

NRC Acting Branch Chief: Booma Venkataraman.

III. Previously Published Notices of Consideration of Issuance of Amendments to Facility Operating Licenses and Combined Licenses, Proposed No Significant Hazards Consideration Determination, and Opportunity for a Hearing

The following notice was previously published as a separate individual notice. The notice content was the same as above. It was published as an individual notice either because time did not allow the Commission to wait for this biweekly notice or because the action involved exigent circumstances. It is repeated here because the biweekly notice lists all amendments issued or proposed to be issued involving no significant hazards consideration.

For details, see the individual notice in the Federal Register on the day and page cited. This notice does not extend the notice period of the original notice.

Tennessee Valley Authority, Docket No. 50-390, Watts Bar Nuclear Plant, Unit 1, Rhea County, Tennessee

Date of amendment request: July 8, 2018. A publicly-available version is in ADAMS under Accession No. ML18189A001.

Brief description of amendment request: The proposed amendment would modify the Watts Bar Nuclear Plant, Unit 1, Technical Specifications to extend Surveillance Requirements 3.3.1.5, 3.3.2.2, and 3.3.6.2.

Date of publication of individual notice in Federal Register: July 16, 2018 (83 FR 32912).

Expiration date of individual notice: August 15, 2018 (public comments); September 14, 2018 (hearing requests).

IV. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

Entergy Louisiana, LLC, and Entergy Operations, Inc., Docket No. 50-458, River Bend Station, Unit 1 (RBS), West Feliciana Parish, Louisiana

Date of amendment request: September 8, 2017, as supplemented by letter dated March 28, 2018.

Brief description of amendment: The amendment revised the RBS technical specifications (TSs) by adding a new TS 3.7.7, “Control Building Air Conditioning (CBAC) System.” This new TS specifically addresses the air conditioning function for switchgear and other electrical equipment located in the RBS control building. A TS Surveillance Requirement 3.7.7.1 was added to verify that each CBAC subsystem has the capability to remove the assumed heat load. The amendment also corrected the RBS operating license Antitrust Conditions, Appendix C, due to an administrative error.

Date of issuance: July 31, 2018.

Effective date: As of the date of issuance and shall be implemented within 90 days from the date of issuance.

Amendment No.: 192. A publicly-available version is in ADAMS under Accession No. ML18177A387; documents related to this amendment are listed in the Safety Evaluation enclosed with the amendment.

Facility Operating License No. NPF-47: The amendment revised the Facility Operating License and Technical Specifications.

Date of initial notice in Federal Register: January 30, 2018 (83 FR 4291). The supplement dated March 28, 2018, provided additional information that clarified the application, did not expand the scope of the application as originally noticed, and did not change the NRC staff's original proposed no significant hazards consideration determination as published in the Federal Register.

The Commission's related evaluation of the amendment is contained in a Safety Evaluation dated July 31, 2018.

No significant hazards consideration comments received: No.

Entergy Nuclear Operations, Inc., Docket No. 50-271, Vermont Yankee Nuclear Power Station (VY), Windham County, Vermont

Date of amendment request: March 29, 2017, as supplemented by letters dated June 28 and September 14, 2017, and January 18, 2018.

Brief description of amendments: The amendment replaces the VY Physical Security Plan with an Independent Spent Fuel Storage Installation (ISFSI) Only Security Plan. The NRC staff determined that the proposed VY ISFSI-Only Security Plan continues to meet the standards in 10 CFR 72.212, “Conditions of general license issued under § 72.210,” paragraph (b)(9). As such, the VY ISFSI-Only Security Plan provides reasonable assurance that adequate protective measures can and will be taken in the event of a design basis threat of radiological sabotage related to the spent fuel. These changes more fully reflect the status of the facility, as well as the reduced scope of potential physical security challenges at the site once all spent fuel has been moved to dry cask storage within the onsite ISFSI, an activity which is currently scheduled for completion in 2018.

Date of issuance: July 25, 2018.

Effective date: As of its date of issuance and shall be implemented within 90 days following VY's submittal of a written certification to the NRC that all spent nuclear fuel assemblies have been transferred out of the spent fuel pool and placed in storage within the onsite ISFSI.

Amendment No.: 269: A publicly-available version is in ADAMS under Accession No. ML18165A423; the Safety Evaluation enclosed with the amendment includes safeguards information that is withheld from public disclosure.

Renewed Facility Operating License No. DPR-28: The amendment revised the Renewed Facility Operating License.

Date of initial notice in Federal Register: September 26, 2017 (82 FR 44847).

The Commission's related evaluation of the amendments is contained in a Safety Evaluation dated July 25, 2018.

No significant hazards consideration comments received: No

Exelon Generation Company, LLC, Docket Nos. 50-352 and 50-353, Limerick Generating Station, Units 1 and 2, Montgomery County, Pennsylvania

Date of amendment request: June 28, 2017, as supplemented by letters dated August 14, 2017, and January 19, April 23, and July 27, 2018.

Brief description of amendments: The amendments added a new license condition to the Renewed Facility Operating Licenses to allow the implementation of risk-informed categorization and treatment of structures, systems, and components for nuclear power reactors in accordance with 10 CFR 50.69.

Date of issuance: July 31, 2018.

Effective date: As of the date of issuance and shall be implemented within 60 days.

Amendment Nos.: 230 (Unit 1) and 193 (Unit 2). A publicly-available version is in ADAMS under Accession No. ML18165A162; documents related to these amendments are listed in the Safety Evaluation enclosed with the amendments.

Renewed Facility Operating License Nos. NPF-39 and NPF-85: The amendments revised the Renewed Facility Operating Licenses.

Date of initial notice in Federal Register: September 26, 2017 (82 FR 44854). The supplemental letters dated letters dated August 14, 2017, and January 19, April 23, and July 27, 2018, provided additional information that clarified the application, did not expand the scope of the application as originally noticed, and did not change the NRC staff's original proposed no significant hazards consideration determination as published in the Federal Register.

The Commission's related evaluation of the amendments is contained in a Safety Evaluation dated July 31, 2018.

No significant hazards consideration comments received: No.

Exelon Generation Company, LLC, Docket Nos. STN 50-456 and STN 50-457, Braidwood Station (Braidwood), Units 1 and 2, Will County, Illinois

Exelon Generation Company, LLC, Docket Nos. STN 50-454 and STN 50-455, Byron Station (Byron), Unit Nos. 1 and 2, Ogle County, Illinois

Exelon Generation Company, LLC, Docket Nos. 50-317 and 50-318, Calvert Cliffs Nuclear Power Plant (Calvert Cliffs), Unit Nos. 1 and 2, Calvert County, Maryland

Exelon Generation Company, LLC, Docket No. 50-461, Clinton Power Station (Clinton), Unit No. 1, DeWitt County, Illinois

Exelon Generation Company, LLC, Docket Nos. 50-237 and 50-249, Dresden Nuclear Power Station (Dresden), Units 2 and 3, Grundy County, Illinois

Exelon Generation Company, LLC and Exelon FitzPatrick, LLC, Docket No. 50-333, James A. FitzPatrick Nuclear Power Plant (FitzPatrick), Oswego County, New York

Exelon Generation Company, LLC, Docket Nos. 50-373 and 50-374, LaSalle County Station (LaSalle), Units 1 and 2, LaSalle County, Illinois

Exelon Generation Company, LLC, Docket Nos. 50-352 and 50-353, Limerick Generating Station (Limerick), Units 1 and 2, Montgomery County, Pennsylvania

Exelon Generation Company, LLC, Docket Nos. 50-220 and 50-410, Nine Mile Point Nuclear Station (Nine Mile), Units 1 and 2, Oswego County, New York

Exelon Generation Company, LLC, and PSEG Nuclear LLC, Docket Nos. 50-277 and 50-278, Peach Bottom Atomic Power Station (Peach Bottom), Units 2 and 3, York and Lancaster Counties, Pennsylvania

Exelon Generation Company, LLC, Docket Nos. 50-254 and 50-265, Quad Cities Nuclear Power Station (Quad Cities), Units 1 and 2, Rock Island County, Illinois

Exelon Generation Company, LLC, Docket No. 50-244, R. E. Ginna Nuclear Power Plant (Ginna), Wayne County, New York

Exelon Generation Company, LLC, Docket No. 50-289, Three Mile Island Nuclear Station (TMI), Unit 1, Dauphin County, Pennsylvania

Date of amendment request: March 1, 2018.

Brief description of amendments: The amendments revised the technical specifications for each facility to relocate the staff qualification requirements to the Exelon Generation Company, LLC quality assurance topical report.

Date of issuance: August 2, 2018.

Effective date: As of the date of issuance and shall be implemented within 60 days from the date of issuance.

Amendment Nos.: 197/197 (Braidwood Units 1 and 2); 203/203 (Byron Units 1 and 2); 325/303 (Calvert Cliffs Units 1 and 2); 219 (Clinton); 258/251 Dresden Units 2 and 3); 320 (FitzPatrick); 229/215 (LaSalle, Units 1 and 2); 231/194 (Limerick Units 1 and 2); 231/172 (Nine Mile Units 1 and 2); 319/322 (Peach Bottom Units 2 and 3); 270/265 (Quad Cities Units 1 and 2); 129 (Ginna); and 294 (TMI). A publicly-available version is in ADAMS under Accession No. ML18206A282. Documents related to these amendments are listed in the Safety Evaluation enclosed with the amendments.

Facility Operating License Nos. NPF-72, NPF-77, NPF-37, NPF-66, DPR-53, DPR-69, NPF-62, DPR-19, DPR-25, DPR-59, NPF-11, NPF-18, NPF-39, NPF-85, DPR-63, NPF-69, DPR-44, DPR-56, DPR-29, DPR-30, DPR-18, and DPR-50: Amendments revised the Facility Operating Licenses and Technical Specifications.

Date of initial notice in Federal Register: April 24, 2018 (83 FR 17862).

The Commission's related evaluation of the amendments is contained in a safety evaluations dated August 2, 2018.

No significant hazards consideration comments received: No.

Nebraska Public Power District, Docket No. 50-298, Cooper Nuclear Station, Nemaha County, Nebraska

Date of amendment request: August 7, 2017, as supplemented by letter dated January 31, 2018.

Brief description of amendment: The amendment replaced the existing technical specification (TS) requirements related to “operations with a potential for draining the reactor vessel” (OPDRVs) with new requirements on reactor pressure vessel (RPV) water inventory control to protect Safety Limit 2.1.1.3. Safety Limit 2.1.1.3 requires RPV water level to be greater than the top of active irradiated fuel. The changes are based on NRC-approved Technical Specifications Task Force (TSTF) Traveler TSTF-542, Revision 2, “Reactor Pressure Vessel Water Inventory Control.”

Date of issuance: August 1, 2018.

Effective date: As of the date of issuance and shall be implemented prior to the fall 2018 refueling outage (RE30).

Amendment No.: 260. A publicly-available version is in ADAMS under Accession No. ML18186A549; documents related to this amendment are listed in the Safety Evaluation enclosed with the amendment.

Renewed Facility Operating License No. DPR-46: Amendment revised the Renewed Facility Operating License and TS.

Date of initial notice in Federal Register: October 24, 2017 (82 FR 49238). The supplemental letter dated January 31, 2018, provided additional information that clarified the application, did not expand the scope of the application as originally noticed, and did not change the NRC staff's original proposed no significant hazards consideration determination as published in the Federal Register.

The Commission's related evaluation of the amendment is contained in a Safety Evaluation dated August 1, 2018.

No significant hazards consideration comments received: No.

NextEra Energy Seabrook, LLC, Docket No. 50-443, Seabrook Station, Unit No. 1, Rockingham County, New Hampshire

Date of amendment request: July 28, 2017.

Brief description of amendment: The amendment revised the Technical Specifications (TS) such that a direct current (DC) electrical train is operable with one 100 percent capacity battery aligned to both DC buses in the associated electrical train.

Date of issuance: August 7, 2018.

Effective date: As of its date of issuance and shall be implemented within 90 days of the date of issuance.

Amendment No.: 157. A publicly-available version is in ADAMS under Accession No. ML18199A609; documents related to this amendment are listed in the Safety Evaluation enclosed with the amendment.

Facility Operating License No. NPF-86: Amendment revised the Facility Operating License and TS.

Date of initial notice in Federal Register: October 10, 2017 (82 FR 47038).

The Commission's related evaluation of the amendment is contained in a Safety Evaluation dated August 7, 2018.

No significant hazards consideration comments received: No.

Southern Nuclear Operating Company, Inc., Docket Nos. 50-424 and 50-425, Vogtle Electric Generating Plant, Units 1 and 2, Burke County, Georgia

Date of amendment request: June 22, 2017, as supplemented by letters dated February 6, February 21, April 26, and August 6, 2018.

Brief description of amendments: The amendments incorporate the use of the peer-reviewed plant-specific seismic probabilistic risk assessment into the previously approved 10 CFR 50.69 categorization process.

Date of issuance: August 10, 2018.

Effective date: As of the date of issuance and shall be implemented within 90 days of issuance.

Amendment Nos.: Unit 1—196; Unit 2—179. A publicly-available version is in ADAMS under Accession No. ML18180A062; documents related to these amendments are listed in the Safety Evaluation enclosed with the amendments.

Renewed Facility Operating License Nos. NPF-68 and NPF-81: Amendments revised the Renewed Facility Operating Licenses.

Date of initial notice in Federal Register: August 29, 2017 (82 FR 41072). The supplemental letters dated February 6, February 21, April 26, and August 6, 2018, provided additional information that clarified the application, did not expand the scope of the application as originally noticed, and did not change the staff's original proposed no significant hazards consideration determination as published in the Federal Register.

The Commission's related evaluation of the amendments is contained in a Safety Evaluation dated August 10, 2018.

No significant hazards consideration comments received: No.

Tennessee Valley Authority, Docket Nos. 50-327 and 50-328, Sequoyah Nuclear Plant (SQN), Units 1 and 2, Hamilton County, Tennessee

Date of amendment request: September 29, 2017, as supplemented by letter dated March 14, 2018.

Brief description of amendments: The amendments revised the SQN Emergency Plan to change staff composition and to extend staff augmentation times for Emergency Response Organization functions.

Date of issuance: August 6, 2018.

Effective date: As of its date of issuance and shall be implemented within 180 days from the date of issuance.

Amendment Nos.: 342—Unit 1 and 335—Unit 2. A publicly-available version is in ADAMS under Accession No. ML18159A461; documents related to these amendments are listed in the Safety Evaluation enclosed with the amendments.

Renewed Facility Operating License Nos. DPR-77 and DPR-79. Amendments revised the Renewed Facility Operating Licenses.

Date of initial notice in Federal Register: February 27, 2018 (83 FR 8520). The supplemental letter dated March 14, 2018, provided additional information that clarified the application, did not expand the scope of the application as originally noticed, and did not change the staff's original proposed no significant hazards consideration determination as published in the Federal Register.

The Commission's related evaluation of the amendments is contained in a Safety Evaluation dated August 6, 2018.

No significant hazards consideration comments received: No.

Dated at Rockville, Maryland, this 16th day of August 2018.
For the Nuclear Regulatory Commission.
Gregory F. Suber,
Deputy Director, Division of Operating Reactor Licensing, Office of Nuclear Reactor Regulation.

[FR Doc. 2018-18028 Filed 8-27-18; 8:45 am]

BILLING CODE 7590-01-P